DEPARTMENT OF COMMERCE

National Oceanic and Atmospheric Administration

[RTID 0648-XD012]

Pacific Fishery Management Council; Public Meetings

AGENCY: National Marine Fisheries Service (NMFS), National Oceanic and Atmospheric Administration (NOAA), Commerce.

ACTION: Notice of public meetings.

SUMMARY: The Pacific Fishery Management Council (Pacific Council) will convene three Stock Assessment Review (STAR) Panel meetings to review 2023 stock assessments for copper rockfish in California, rex sole, shortspine thornyhead, black rockfish, petrale sole, and canary rockfish. The meetings will be co-hosted by the NMFS Northwest and Southwest Fisheries Science Centers. STAR panel meetings are open to the public and being conducted in person with a web broadcast that provides the opportunity for remote listening and public comment.

DATES: The STAR panel meeting (STAR Panel 1) to review new assessments for copper rockfish in California, rex sole, and shortspine thornyhead will be held Monday, June 5, 2023 and will continue through Friday, June 9, 2023, from 8:30 a.m. until 5:30 p.m. (Pacific Daylight Time) each day, or when business for the day has been completed.

The STAR panel meeting (STAR Panel 2) to review new assessments for black rockfish will be held Monday, July 10, 2023 and will continue through Friday, July 14, 2023, beginning at 8:30 a.m. and ending at 5:30 p.m. each day, or when business for the day has been completed.

The STAR panel meeting (STAR Panel 3) to review new assessments for petrale sole and canary rockfish will be held Monday, July 24, 2023 and will continue through Friday, July 28, 2023, from 8:30 a.m. until 5:30 p.m. (Pacific Daylight Time) or when business for the day has been completed.

ADDRESSES: The STAR panels for copper rockfish in California, rex sole, and shortspine thornyhead (STAR Panel 1), and for petrale sole and canary rockfish (STAR Panel 3) will be held in the Auditorium at the National Marine Fisheries Service, Northwest Fisheries Science Center, 2725 Montlake Boulevard E, Seattle, WA 98112; telephone: (206) 860-3200.

The STAR panel for black rockfish (STAR Panel 2) will be held at the National Marine Fisheries Service, Southwest Fisheries Science Center, Santa Cruz Laboratory, 110 McAllister Way, Santa Cruz, CA 95060; telephone: (831) 420-3900.

These meetings are being conducted in person with a web broadcast that provides the opportunity for remote public comment. Specific meeting information, materials, visitor protocols, and instructions for how to connect to the meeting remotely will be provided in the meeting announcement on the Pacific Council's website (see www.pcouncil.org). In the event an outage occurs, or technical issues arise that impact the experience of remote attendees, we will attempt to resolve them but ultimately, we cannot guarantee that they will be resolved satisfactorily.

Council address: Pacific Fishery Management Council, 7700 NE Ambassador Place, Suite 101, Portland, OR 97220-1384.

FOR FURTHER INFORMATION CONTACT: Dr. Owen Hamel, NMFS Northwest Fisheries Science Center; telephone: (206) 860-3481; or Marlene A. Bellman, Staff Officer, Pacific Council; telephone: (503) 820-2414, email: marlene.bellman@noaa.gov.

SUPPLEMENTARY INFORMATION: The purpose of the STAR Panels is to review draft 2023 stock assessment documents and any other pertinent information for copper rockfish in California, rex sole, shortspine thornyhead, black rockfish, petrale sole, and canary rockfish; work with the Stock Assessment Teams to make necessary revisions; and produce STAR Panel reports for use by the Pacific Council and other interested persons for developing management recommendations for fisheries in 2025 and beyond. The review panels will consist of members of the Pacific Council's Scientific and Statistical Committee's Groundfish Subcommittee, at least one independent expert from the Center for Independent Experts, and other invited expert reviewers. Representatives of the Pacific Council's Groundfish Management Team and the Groundfish Advisory Subpanel will also participate in the review as advisers.

No management actions will be decided by the STAR Panels. The STAR Panel participants' role will be development of recommendations and reports for consideration by the Pacific Council at its September meeting in Spokane, WA.

Although non-emergency issues not contained in the meeting agendas may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Visitors who are foreign nationals (defined as a person who is not a citizen or national of the United States) may require additional security clearance to access the NMFS Northwest and Southwest Fisheries Science Centers. Foreign national visitors to the Northwest Fisheries Science Center (STAR Panel 1 and 3) should contact Dr. Owen Hamel at (206) 860-3481 or to the Southwest Fisheries Science Center (STAR Panel 2) should contact Dr. John Field at (831) 420-3907; at least 2 weeks prior to the meeting date to initiate the security clearance process.

Visitors to the NMFS Northwest Fisheries Science Center will need to obtain a visitor badge. Visitor protocols will be provided in the meeting announcement on the Pacific Council's website (see www.pcouncil.org).

Special Accommodations

These meetings are physically accessible to people with disabilities. Requests for sign language interpretation or other auxiliary aids should be directed to Dr. Owen Hamel (owen.hamel@noaa.gov; (206) 860-3481) at least 10 days prior to the meeting date.

Authority: 16 U.S.C. 1801 et seq.

Dated: May 12, 2023.
Rey Israel Marquez,
Acting Deputy Director, Office of Sustainable Fisheries, National Marine Fisheries Service.

[FR Doc. 2023-10506 Filed 5-16-23; 8:45 am]

BILLING CODE 3510-22-P